DEPARTMENT OF AGRICULTURE

Forest Service

Tongass National Forest; Alaska; Forest Plan Amendment

AGENCY: Forest Service, USDA.

ACTION: Notice of Intent to prepare an environmental impact statement; correction.

SUMMARY: A Notice of Intent (NOI) to prepare an Environmental Impact Statement to amend the 2008 Tongass National Forest Land and Resource Management Plan (Forest Plan) was published in the Federal Register (79 FR 30074) on May 27, 2014. The Tongass National Forest is publishing this corrected NOI due to changes in the anticipated dates for the draft environmental impact statement (DEIS) and Record of Decision (ROD, to designate a new responsible official for the plan amendment, and to clarify the pre-decisional administrative review process. The 2012 Planning Rule (36 CFR part 219) includes subpart B, which establishes a pre-decisional administrative review (hereinafter referred to as “objection”) process for plan amendments giving an individual or entity an opportunity for an independent Forest Service review and resolution of issues before the approval of a plan amendment documented with a ROD (reference 36 CFR part 219, subpart B). This Forest Plan Amendment is subject to the objection process.

FOR FURTHER INFORMATION CONTACT: Susan Howle, Project Manager, Tongass National Forest, Ketchikan, AK 99901, (907) 228-6340.

Corrections

In the Federal Register (79 FR 30074) of May 27, 2014 on page 30074, in the third column under the “Dates” caption, correct the second and fourth sentences to read:

The draft environmental impact statement is expected to be published in October 2015, which will begin a 90-day public comment period.

The Record of Decision is expected to be signed in October 2016.

In the Federal Register (79 FR 30074) of May 27, 2014 on page 30075, in the third column under “Scoping Process” caption, correct by adding the following as a third paragraph:

Forest Service regulations at 36 CFR 219, subpart B; published April 9, 2012 (77 FR 21162) include an objection process that applies to plan amendments. This proposed plan amendment is subject to 36 CFR 219, subpart B. There will be an objection process before the final decision is made, and after the final environmental impact statement and draft Record of Decision are made available to the public. Individuals and entities as defined in 36 CFR 219.53 who have submitted substantive formal comments related to the plan amendment during the opportunities for public comment as provided in subpart A (reference 36 CFR 219.16) may file an objection. Objections will be accepted only from those who have previously submitted substantive formal comments related to the plan amendment during scoping, the 90-day DEIS comment period, or other public involvement opportunity where comments are requested by the responsible official in accordance with 36 CFR 219.16.

In the Federal Register (79 FR 30074) of May 27, 2014 on page 30075, in the third column at bottom, correct the name and title “Forrest Cole, Tongass Forest Supervisor” to read:

M. Earl Stewart, Tongass Forest Supervisor

Dated: June 16, 2015.
M. Earl Stewart,
Forest Supervisor, Tongass National Forest.

[FR Doc. 2015-15362 Filed 6-22-15; 8:45 am]

BILLING CODE 3410-11-P